DEPARTMENT OF THE INTERIOR

National Park Service

Concession Contract Negotiations; Public Notice

AGENCY: National Park Service, Interior.

ACTION: Public notice.

SUMMARY: Pursuant to the terms of existing concession contracts, public notice is hereby given that the National Park Service intends to request a continuation of visitor services for a period not-to-exceed one year from the date of contract expiration.

SUPPLEMENTARY INFORMATION: The contracts listed below have been extended to the maximum allowable under 36 CFR 51.23. Under the provisions of current concession contracts and pending the development and public solicitation of a prospectus for a new concession contract, the National Park Service authorizes continuation of visitor services for a period not-to-exceed one year under the terms and conditions of current contracts as amended. The continuation of operations does not affect any rights with respect to selection for award of a new concession contract.

Concessioner ID No. | Concessioner name | Park
AMIS002 | Lake Amistad Resort and Marina | Amistad National Recreation Area.
AMIS003 | Rough Canyon Marina, Inc. | Amistad National Recreation Area.
CACA001 | Cavern Supply Co., Inc. | Carlsbad Caverns National Park.
CURE001 | Elk Creek Marina, Inc. | Curecanti National Recreation Area.
GLAC001 | Glacier Park Boat Company, Inc. | Glacier National Park.
GLAC003 | Mule Shoe Outfitters, Inc. | Glacier National Park.
GLAC004B | Belton Chalets/Sperry Chalets | Glacier National Park.
GLCA001 | Wilderness River Adventures | Glen Canyon National Recreation Area.
GLCA003 | Wahweap Lodge and Marina, Inc. | Glen Canyon National Recreation Area.
GRCA004 | Grand Canyon Trail Rides | Grand Canyon National Park.
GRCA005 | Verkamp's, Inc. | Grand Canyon National Park.
GRTE003 | Signal Mountain Lodge | Grand Teton National Park.
GRTE009 | Exum Mountain Guides | Grand Teton National Park.
LAMR002 | Lake Meredith Marina, Inc. | Lake Meredith National Recreation Area.
PAIS001 | Padre Island Park Company | Padre Island National Seashore
PEFO001 | Xanterra Parks and Resorts, LLC | Petrified Forest National Park.
ROMO001 | Rex G. & Ruth G. Maughan (Trail Ridge Store) | Rocky Mountain National Park.
TICA001 | Carl and Betsy Wagner | Timpanogos Cave National Monument.
YELL400 | Ace Snowmobile Rental | Yellowstone National Park.
YELL401 | Gary Fales Outfitting | Yellowstone National Park.
YELL402 | Backcountry Adventures | Yellowstone National Park.
YELL403 | Yellowstone Arctic—Yamaha | Yellowstone National Park.
YELL404 | Loomis Enterprises | Yellowstone National Park.
YELL405 | Pahaska Tepee | Yellowstone National Park.
YELL406 | Yellowstone Adventures | Yellowstone National Park.
YELL407 | Targhee Snowmobile Tours | Yellowstone National Park.
YELL408 | Two Top Snowmobile Rental | Yellowstone National Park.
YELL409 | Three Bear Lodge | Yellowstone National Park.
ZION001 | Bryce-Zion Trail Rides | Zion National Park.

EFFECTIVE DATE: January 2, 2003.

FOR FURTHER INFORMATION CONTACT: Cynthia Orlando, Concession Program Manager, National Park Service, Washington, DC, 20240, Telephone 202/565-1210.

Dated: October 31, 2002.
Richard G. Ring,
Associate Director, Administration, Business Practices and Workforce Development.

[FR Doc. 02-30924 Filed 12-5-02; 8:45 am]

BILLING CODE 4310-70-M